INTER-AMERICAN FOUNDATION

Board Meeting; Sunshine Act Meetings

Time and Date: August 9, 2010, 8:30 a.m.-5:30 p.m..

Place: 101 Constitution Avenue, Washington, DC 20001.

Status: Closed session as provided in 22 CFR 1004.4(f).

Matters to be Considered:

• Executive Session.

Portions to be Closed to the Public: • Executive Session to discuss Candidates for Presidential Position— Closed session as provided in 22 CFR 1004.4 (f).

Contact Person for More Information: Jennifer Hodges Reynolds, General Counsel, (703) 306-4301.

Dated: July 29, 2010.
Jennifer Hodges Reynolds,
General Counsel.

[FR Doc. 2010-19413 Filed 8-3-10; 4:15 pm]

BILLING CODE 7025-01-P